DEPARTMENT OF HEALTH AND HUMAN SERVICES

Food and Drug Administration

Request for Nominations for Voting Members of a Public Advisory Committee and Subcommittees

AGENCY: Food and Drug Administration, HHS.

ACTION: Notice.

The Food and Drug Administration (FDA) is requesting nominations for voting members to serve on the Food Advisory Committee (the Parent Committee) and certain subcommittees of the Food Advisory Committee in FDA's Center for Food Safety and Applied Nutrition (CFSAN). Nominations will be accepted for current vacancies and those that will or may occur through June 30, 2005.

FDA has special interest in ensuring that women, minority groups, and individuals with disabilities are adequately represented on advisory committees and, therefore, encourages nominations of qualified candidates from these groups.

DATES: Because scheduled vacancies occur on various dates throughout the year, no cutoff date is established for the receipt of nominations. However, when possible, nominations should be received at least 6 months before the date of scheduled vacancies for each year, as indicated in this document.

ADDRESSES: Send all nominations and curricula vitae to Carolyn Jeletic, Center for Food Safety and Applied Nutrition (HFS-6), Food and Drug Administration, 5100 Paint Branch Pkwy., College Park, MD 20740, 301-436-2397, FAX: 301-436-2633, e-mail: Carolyn.Jeletic@cfsan.fda.gov.

SUPPLEMENTARY INFORMATION: FDA is requesting nominations of voting members for the vacancies listed in table 1 of this document.

I. Vacancies

FDA is requesting nominations of voting members for vacancies listed as follows:

Table 1.
Advisory Committee, Subcommittees, and Expertise Needed to Fill Vacancies | Number of Vacancies | Approximate Date Members Are Needed
Food Advisory Committee (Parent Committee): Physical sciences; biological and life sciences; epidemiology; risk assessment; toxicology; nutrition; food science, technology, or engineering; medical and public health sciences; and other relevant scientific and technical disciplines | 6 | June 30, 2005.
Additives and Ingredients Subcommittee of the Food Advisory Committee: Toxicology and food chemistry | 7 | June 30, 2005.
Contaminants and Natural Toxicants Subcommittee of the Food Advisory Committee: Food science, food chemistry, food microbiology, toxicology, and risk analysis | 4 | June 30, 2005.
Dietary Supplements Subcommittee of the Food Advisory Committee: Biological sciences and medical, hospital, dental, and public health | 5 | June 30, 2005.
Infant Formula Subcommittee of the Food Advisory Committee: Biological sciences and medical, hospital, dental, and public health | 3 | June 30, 2005.
Food Biotechnology Subcommittee of the Food Advisory Committee: Food biotechnology | 5 | June 30, 2005.
Nutrition Subcommittee of the Food Advisory Committee: Biological sciences and medical, hospital, dental, and public health | 1 | June 30, 2005.

II. Functions

The Parent Committee provides advice primarily to the Director of CFSAN, and as needed, to the Commissioner of Food and Drugs, and other appropriate officials, on emerging food safety, food science, nutrition, and other food-related issues that FDA considers of primary importance for its food and cosmetics program. The Parent Committee may be charged with reviewing and evaluating available data and making recommendations on matters such as those relating to the following topics: (1) Broad scientific and technical food or cosmetic related issues, (2) the safety of new foods and food ingredients, (3) labeling of foods and cosmetics, (4) nutrient needs and nutritional adequacy, and (5) safe exposure limits for food contaminants. The Parent Committee also may be asked to provide advice and make recommendations on ways of communicating to the public the potential risks associated with these issues and on approaches that might be considered for addressing the issues.

III. Qualifications

Persons nominated for membership on the Parent Committee and subcommittees shall be knowledgeable in the fields of physical sciences, biological and life sciences, food science, risk assessment, and other relevant scientific and technical disciplines. The agency is particularly interested in considering candidates with a comprehensive background in food technology, molecular biology, genetics, biotechnology, and a variety of medical specialties, as many issues brought before the Committee involve medical or epidemiological impact on nutrients, additives, contaminants, or other constituents of the diet, such as dietary supplements. The term of office is for up to 4 years, depending on the appointment date.

IV. Nomination Procedures

Any interested person may nominate one or more qualified persons for membership on the Parent Committee or one or more of the subcommittees. Self-nominations are also accepted. Nominations shall include the name of the committee or subcommittee, a complete curriculum vitae of each nominee, current business address and telephone number, and shall state that the nominee is aware of the nomination, is willing to serve as a member of the Parent Committee or subcommittee (name of committee/subcommittee(s) must be specified), and appears to have no conflict of interest that would preclude membership. FDA will ask the potential candidates to provide detailed information concerning such matters as financial holdings, employment, and research grants and/or contracts to permit evaluation of possible sources of conflicts of interest.

This notice is issued under the Federal Advisory Committee Act (5 U.S.C. app. 2) and 21 CFR part 14, relating to advisory committees.

Dated: October 1, 2004.
Sheila Dearybury Walcoff,
Associate Commissioner for External Relations.

[FR Doc. 04-22498 Filed 10-5-04; 8:45 am]

BILLING CODE 4160-01-S